NUCLEAR REGULATORY COMMISSION

Advisory Committee on Reactor Safeguards; Meeting Notice

In accordance with the purposes of Sections 29 and 182b. of the Atomic Energy Act (42 U.S.C. 2039, 2232b), the Advisory Committee on Reactor Safeguards will hold a meeting on October 5-7, 2000, in Conference Room T-2B3, 11545 Rockville Pike, Rockville, Maryland. The date of this meeting was previously published in the Federal Register on Thursday, October 14, 1999 (64 FR 55787).

Thursday, October 5, 2000

8:30 A.M.-8:45 A.M.: Opening Remarks by the ACRS Chairman (Open)—The ACRS Chairman will make opening remarks regarding the conduct of the meeting.

8:45 A.M.-10:00 A.M.: Discussion of Union of Concerned Scientists Report, “Nuclear Plant Risk Studies: Failing the Grade” (Open)—The Committee will hear presentations by and hold discussions with representatives of the Union of Concerned Scientists (UCS), the NRC staff, and other interested parties concerning the August 2000 UCS report on nuclear plant risk studies.

10:15 A.M.-11:30 A.M.: NEI 00-02, “Industry PRA Peer Review Process Guidelines” (Open)—The Committee will hear presentations by and hold discussions with representatives of the Nuclear Energy Institute (NEI) and the NRC staff regarding the proposed industry PRA certification guidelines described in the document NEI 00-02.

11:30 A.M.-12:30 P.M.: Staff Views on ASME Standard for PRA for Nuclear Power Plant Applications (Open)—The Committee will hear presentations by and hold discussions with representatives of the NRC staff regarding the staff's August 14, 2000 response to the American Society of Mechanical Engineers (ASME) draft Revision 12 ASME Standard for Probabilistic Risk Assessment for Nuclear Power Plant Applications.

1:30 P.M.-3:00 P.M.: Pressurized Thermal Shock Technical Bases Reevaluation Project (Open)—The Committee will hear presentations by and hold discussions with representatives of the NRC staff regarding the pressurized thermal shock technical bases reevaluation project.

3:30 P.M.-4:30 P.M.: Break and Preparation of Draft ACRS Reports (Open)—Cognizant ACRS members will prepare draft reports, as needed, for consideration by the full Committee.

4:30 P.M.-6:00 P.M.: Discussion of Proposed ACRS Reports (Open)—The Committee will discuss proposed ACRS reports on matters considered during this meeting.

6:00 P.M.-7:00 P.M.: Discussion of Topics for Meeting with the NRC Commissioners (Open)—The Committee will discuss issues associated with risk informing 10 CFR 50, quality of PRAs, spent fuel pool fire safety study, more realistic (best estimate) thermal-hydraulic codes and status of ACRS activities on license renewals.

Friday, October 6, 2000

8:30 A.M.-8:35 A.M.: Opening Remarks by the ACRS Chairman (Open)—The ACRS Chairman will make opening remarks regarding the conduct of the meeting.

8:35 A.M.-9:15 A.M.: Discussion of Topics for Meeting with the NRC Commissioners (Open)—The Committee will discuss matters scheduled for the meeting with the NRC Commissioners associated with risk informing 10 CFR 50 and related matters.

9:30 A.M.-12:00 Noon: Meeting with the NRC Commissioners (Open)—The Committee will meet with the NRC Commissioners, Commissioners' Conference Room, One White Flint North to discuss risk informing 10 CFR 50 and related matters.

1:30 P.M.-3:00 P.M.: Discussion of Industry Issues (Open)—The Committee will hear a presentation by R. Beedle, Senior Vice President, NEI on issues of mutual interest.

3:15 P.M.-4:45 P.M.: GSI-168, Equipment Qualification (Open)—The Committee will hear presentations by and hold discussions with representatives of the NRC staff regarding the GSI-168, Equipment Qualification.

4:45 P.M.-5:30 P.M.: ACRS Review of Generic Guidance Documents Associated with License Renewal (Open)—The Committee will discuss concerns identified during their initial review of the draft guidance documents.

5:30 P.M.-5:50 P.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

5:50 P.M.-6:00 P.M.: Reconciliation of ACRS Comments and Recommendations (Open)—The Committee will discuss the responses from the NRC Executive Director for Operations (EDO) to comments and recommendations included in recent ACRS reports and letters. The EDO responses are expected to be made available to the Committee prior to the meeting.

6:00 P.M.-6:30 P.M.: Break and Preparation of Draft ACRS Reports(Open)—Cognizant ACRS members will prepare draft reports, as needed, for consideration by the full Committee.

6:30 P.M.-7:30 P.M.: Discussion of Proposed ACRS Reports (Open)—The Committee will discuss proposed ACRS reports.

Saturday, October 7, 2000

8:30 A.M.-8:35 A.M.: Opening Remarks by the ACRS Chairman (Open)—The ACRS Chairman will make opening remarks regarding the conduct of the meeting.

8:35 A.M.-12:30 P.M.: Discussion of Proposed ACRS Reports (Open)—The Committee will continue its discussion of proposed ACRS reports.

12:30 P.M.-1 P.M.: Annual Report to the Commission on the NRC Safety Research Program (Open)—The Committee will discuss the format and content of the annual ACRS report to the Commission on the NRC Safety Research Program.

1 P.M.-1:30 P.M.: Miscellaneous (Open)—The Committee will discuss matters related to the conduct of Committee activities and matters and specific issues that were not completed during previous meetings, as time and availability of information permit.

Procedures for the conduct of and participation in ACRS meetings were published in the Federal Register on September 28, 1999 (64 FR 52353). In accordance with these procedures, oral or written views may be presented by members of the public, including representatives of the nuclear industry. Electronic recordings will be permitted only during the open portions of the meeting and questions may be asked only by members of the Committee, its consultants, and staff. Persons desiring to make oral statements should notify Mr. James E. Lyons, ACRS, five days before the meeting, if possible, so that appropriate arrangements can be made to allow necessary time during the meeting for such statements. Use of still, motion picture, and television cameras during the meeting may be limited to selected portions of the meeting as determined by the Chairman. Information regarding the time to be set aside for this purpose may be obtained by contacting Mr. James E. Lyons prior to the meeting. In view of the possibility that the schedule for ACRS meetings may be adjusted by the Chairman as necessary to facilitate the conduct of the meeting, persons planning to attend should check with Mr. James E. Lyons if such rescheduling would result in major inconvenience.

Further information regarding topics to be discussed, whether the meeting has been canceled or rescheduled, the Chairman's ruling on requests for the opportunity to present oral statements, and the time allotted therefor can be obtained by contacting Mr. James E. Lyons (telephone 301-415-7371), between 7:30 a.m. and 4:15 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment facilities that they use to establish the videoteleconferencing link. The availability of videoteleconferencing services is not guaranteed.

Dated: September 14, 2000.
Andrew L. Bates,
Advisory Committee Management Officer.

[FR Doc. 00-24160 Filed 9-19-00; 8:45 am]

BILLING CODE 7590-01-P